DEPARTMENT OF THE INTERIOR

Bureau of Land Management

[PO #4820000251]

New Recreation Fee Areas and New Fees for Existing Individual Special Recreation Permits for On-River Camping in the Gunnison River Special Recreation Management Area Within the Dominguez-Escalante National Conservation Area, Colorado

AGENCY: Bureau of Land Management, Interior.

ACTION: Notice of intent to establish fees.

SUMMARY: Pursuant to the Federal Lands Recreation Enhancement Act (FLREA), the Bureau of Land Management (BLM) Grand Junction Field Office (GJFO), Upper Colorado River District, and the Uncompahgre Field Office (UFO), Southwest District, intend to establish recreation fee areas at existing developed campgrounds, future developed campgrounds and campsites, and for designated campsites within the Gunnison River Special Recreation Management Area (SRMA) in the Dominguez-Escalante National Conservation Area (D-E NCA) as managed by the field offices as one NCA unit in Delta, Mesa, and Montrose Counties.

DATES: The new fees will take effect on July 14, 2025 unless the BLM publishes a Federal Register notice to the contrary.

ADDRESSES: Documents concerning this fee change may be reviewed at the Grand Junction Field Office, 2815 H Road, Grand Junction, CO 81506; phone: (970) 244-3000; and online at: https://www.blm.gov/programs/recreation/permits-and-fees/business-plans.

FOR FURTHER INFORMATION CONTACT: Zack Kelley, acting National Conservation Area Manager, or Erin Jones, Deputy District Manager, with the Upper Colorado River District, both at the Grand Junction Field Office, telephone: (970) 244-3000. Individuals in the United States who are deaf, deafblind, hard of hearing, or have a speech disability may dial 711 (TTY, TDD, or TeleBraille) to access telecommunications relay services for contacting the BLM. Individuals outside the United States should use the relay services offered within their country to make international calls to the point-of-contact in the United States.

SUPPLEMENTARY INFORMATION: Consistent with the FLREA, the intent of recreation fees is to help protect natural resources, provide for public health and safety, and facilitate access to public lands and related waters, and not to maximize fee revenue. Fees are a way of ensuring that those who actively use recreation opportunities make a greater, but reasonable, contribution toward protecting and enhancing those opportunities than those who do not utilize recreational opportunities.

FLREA directs the Secretary of the Interior to publish a 6-month advance notice in the Federal Register whenever new recreation fee areas are established. In accordance with BLM policy, the business plan for the D-E NCA explains the fee collection process and how fees will be used at these sites.

The BLM will establish new expanded amenity recreation fees at the existing Big Dominguez and Potholes campgrounds. The BLM will establish future expanded amenity fee collection for future designated campsites (approximately 70) throughout the D-E NCA as expanded amenities are developed and campsites are designated to meet public need and to provide for resource protection.

The expanded amenity fee for developed campsites is $20 per night per site (up to two vehicles included and no more than five participants per vehicle). For larger capacity sites, as identified at the campground by the BLM, each additional vehicle beyond the first two vehicles will be $10 each. A vehicle is defined as legal transportation used to access the site (e.g., car, truck, motorcycle, van, or other wheeled conveyance). Participants includes non-human participants (e.g., dogs, horses, alpacas, etc.).

Because the entirety of the D-E NCA meets the definition of a Special Area, the BLM may also establish Individual Special Recreation Permits (ISRP) and associated fees to be paid by visitors participating in activities requiring special management. Consistent with this authority, this notice also provides the required notification to apply a fee structure to the ISRP established for the Gunnison River SRMA for on-river camping. The BLM may also establish an ISRP fee for additional areas where the Authorized Officer, in the future, determines recreation requires special management through an ISRP. Notification of future ISRP fees for any additional areas within the D-E NCA will be published in the Federal Register. Day-use areas and areas where dispersed/undeveloped camping is permitted will remain available throughout D-E NCA without a reservation or a fee.

The ISRP fee is $20 per night per site for small groups (1 to 5 participants), $50 per night per site for medium groups (6 to 14 participants), and $100 per night per site for large groups (15 to 25 participants). Participants includes non-human participants (e.g., dogs, horses, alpacas, etc.).

To stay current with rising management and maintenance costs, the BLM will utilize the Western U.S. Consumer Price Index (CPI) to determine future fee adjustments. The Western U.S. CPI is published online monthly at: https://www.bls.gov/cpi/regional-resources.htm. A yearly average of the CPI is published every January. Every year after fee implementation begins, the BLM will use the yearly CPI to determine if fees need to be increased. When the CPI rises by 20 percent, the fees may be increased the corresponding amount, rounded up to the nearest whole dollar. This measure will result in a sustainable and consistent funding source that will increase assurances for users that the program could continue to provide regular maintenance and necessary capital improvements into the future. The BLM will update the BLM Northwest and Southwest Resource Advisory Councils (RACs) after each fee increase (approximately every 4 to 5 years) on successes and challenges in using the Western U.S. CPI.

People holding an America the Beautiful Pass—The National Parks and Federal Recreational Lands Senior Pass or Access Pass, or a Golden Age or Golden Access Passport, will be entitled to a 50 percent fee reduction on expanded amenity fees. Discounts and fee-free days do not apply to ISRP fees.

The BLM is establishing these recreation fees in response to increasing recreation demands and resource protection requirements in the D-E NCA. Recreation fees are needed to: maintain visitor facilities and visitor services; replace aging infrastructure; reduce impacts to resources; improve visitor health and safety; and provide sustainable recreational opportunities. The business plan explains: (1) consistency with the BLM recreation fee program policy; (2) the recreation management direction for the D-E NCA; (3) the need for fee collection; (4) how the fees will be used in the area; (5) coordination with RACs; and (6) guidance on future fee increases. As analyzed in the business plan, the recreation use fees are consistent with other nearby Federal land management agency fees and are lower than the fees charged at privately owned campgrounds. The business plan is available at https://www.blm.gov/programs/recreation/permits-and-fees/business-plans.

A public comment period on the draft business plan, announced by a news release, ran from August 26, 2024, to September 25, 2024. BLM Northwest and Southwest RACs met March 30, 2023, at a combined RAC meeting where they discussed fee proposals. The RACs recommended the fee proposal for approval in a joint meeting on May 2, 2024, using the Western U.S. CPI to determine future fee increases.

(Authority: 16 U.S.C. 6803(b) and 43 CFR 2933)

Douglas Vilsack,
BLM Colorado State Director.

[FR Doc. 2025-00507 Filed 1-10-25; 8:45 am]

BILLING CODE 4331-16-P